COMMITTEE FOR THE IMPLEMENTATION OF TEXTILE AGREEMENTS

Designation under the Textile and Apparel Commercial Availability Provisions of the Andean Trade Promotion and Drug Eradication Act (ATPDEA)

July 17, 2006.

AGENCY: The Committee for the Implementation of Textile Agreements (CITA)

ACTION: Designation

EFFECTIVE DATE: July 20, 2006

SUMMARY: The Committee for the Implementation of Textile Agreements (CITA) has determined that certain polyester and nylon yarns, of the specifications detailed below, classified in subheadings 5402.31.6000, 5402.62.0000, and 5605.00.1000 of the Harmonized Tariff Schedule of the United States (HTSUS), cannot be supplied by the domestic industry in commercial quantities in a timely manner. CITA hereby designates apparel articles containing lace fabrics of such yarns, that are sewn or otherwise assembled in one or more eligible ATPDEA beneficiary countries from such fabrics, as eligible for quota free and duty free treatment under the textile and apparel commercial availability provisions of the ATPDEA and eligible under HTSUS subheading 9821.11.10, provided that all other fabrics in the apparel articles are wholly formed in the United States from yarns wholly formed in the United States, including fabrics not formed from yarns, if such yarns are classifiable under HTSUS heading 5602 or 5603, and are wholly formed in the United States. CITA notes that this designation under the ATPDEA renders apparel articles containing lace fabrics of such yarn, sewn or otherwise assembled in an eligible ATPDEA beneficiary country, as eligible for quota-free and duty-free treatment under HTSUS subheading 9821.11.13, provided the requirements of that subheading are met.

FOR FURTHER INFORMATION CONTACT: Maria K. Dybczak, Office of Textiles and Apparel, U.S. Department of Commerce, (202) 482 3400.

SUPPLEMENTARY INFORMATION:

Authority: Section 204 (b)(3)(B)(ii) of the ATPDEA, Presidential Proclamation 7616 of October 31, 2002, Executive Order 13277 of November 19, 2002, and the United States Trade Representative's Notice of Further Assignment of Functions of November 25, 2002.

Background:

The ATPDEA provides for duty-free treatment for qualifying textile and apparel products. Such treatment is generally limited to products manufactured from yarns and fabrics formed in the United States or a beneficiary country. The ATPDEA also provides for quota- and duty-free treatment for apparel articles that are both cut (or knit-to-shape) and sewn or otherwise assembled in one or more beneficiary countries from fabric or yarn that is not formed in the United States, if it has been determined that such fabric or yarn cannot be supplied by the domestic industry in commercial quantities in a timely manner. In Executive Order No. 13191 (66 FR 7271) and pursuant to Executive Order No. 13277 (67 FR 70305) and the United States Trade Representative's Notice of Redelegation of Authority and Further Assignment of Functions (67 FR 71606), the President delegated to CITA the authority to determine whether yarns or fabrics cannot be supplied by the domestic industry in commercial quantities in a timely manner under the ATPDEA. On March 6, 2001, CITA published procedures that it will follow in considering requests (66 FR 13502).

On March 9, 2006, the Chairman of CITA received a petition from Encajes, S.A. Colombia, alleging that certain polyester and nylon yarns, as described below, cannot be supplied by the domestic industry in commercial quantities in a timely manner. It requested quota- and duty-free treatment under the ATPDEA for apparel articles that contain lace fabrics of such yarns that are sewn or otherwise assembled in one or more ATPDEA beneficiary countries.

Specifications:

1. Mamilon Metallic Yarn, G-100 1/69 |
HTSUS subheading: | 5605.00.1000
Fiber Content: | 100% Metallic Covered in Polyester
Cut: | Flat
Color: | Silver and Gold
Yarn Size: | Silver- 115 denier; Gold - 126 denier
Yarn Type: | Flat, non-textured
Yarn width: | 25 microns
2. Cationic Polyester BR 305f96, 120 Ts (Rigid Poly) | *
HTSUS subheading: | 5402.62.0000
Fiber Content: | 100% Cationic Polyester
Cut: | Trilobal
Color: | Bright
Yarn Type: | Flat, non-textured
Yarn Size: | 305 decitex, 96 filaments with 120 twists in “S” by meter
3. Cationic Polyester Bright Flat 2/78F48 dtex at 120 Ts |
HTSUS subheading: | 5402.62.0000
Fiber Content: | 100% Cationic Polyester
Cut: | Trilobal
Color: | Bright
Yarn Type: | Flat, non-textured
Yarn Size: | 78 decitex, 48 filaments, plied, with 120 twists in “S” by meter
4. Tactel Bright |
HTSUS subheading: | 5402.31.6000
Fiber Content: | 100% Polyamide 6.6 High Tenacity Nylon
Cut: | Trilobal
Color: | Bright
Yarn Type: | Textured
Yarn Size: | 312 decitex, 102 filaments, plied, with 450 twists in “S” by meter

On March 15, 2006, CITA requested public comments on the petition. See Request for Public Comments on Commercial Availability Petition Under ATPDEA, 71 FR 13360 (Mar. 15, 2006).

On March 31, 2006, CITA and the Office of the U.S. Trade Representative (USTR) sent memoranda seeking the advice of the Industry Trade Advisory Committees (ITAC) for Textiles and Clothing and for Distribution Services. No advice was received from either ITAC. On March 31, 2006, CITA and the USTR offered to hold consultations with the Committee on Ways and Means of the House of Representatives and the Committee on Finance of the Senate (collectively, the Congressional Committees). USTR requested the advice of the U.S. International Trade Commission (ITC) on the probable economic effects on the domestic industry of granting the request. On April 20, 2006, the ITC provided advice on the petition.

Based on the information and advice received and its understanding of the industry, CITA determined that the yarns set forth in the petition cannot be supplied by the domestic industry in commercial quantities in a timely manner. On May 8, 2006, CITA and USTR submitted a report to the Congressional Committees that set forth the action proposed, the reasons for such action, and the advice obtained. A period of 60 calendar days since this report was submitted has expired.

CITA hereby designates as eligible to enter free of quotas and duties under HTSUS subheading 9821.11.10, apparel articles containing lace fabrics of such yarns, of the specifications detailed above, that are sewn or otherwise assembled in one or more eligible ATPDEA beneficiary countries. Apparel article containing lace fabrics of such yarns shall be eligible to enter free of quotas and duties under this subheading, provided all other yarns used in the apparel articles are U.S. formed and all other fabrics used in the apparel articles are U.S. formed from yarns wholly formed in the United States, including fabrics not formed from yarns, if such yarns are classifiable under HTSUS heading 5602 or 5603, and are wholly formed in the United States, subject to the special rules for findings and trimmings, certain interlinings and de minimis fibers and yarns under section 204(b)(3)(B)(vi) of the ATPDEA, and that such articles are imported directly into the customs territory of the United States from an eligible ATPDEA beneficiary country.

An “eligible ATPDEA beneficiary country” means a country which the President has designated as an ATPDEA beneficiary country under section 203(a)(1) of the Andean Trade Preference Act (ATPA) (19 U.S.C. 3202(a)(1)), and which has been the subject of a finding, published in the Federal Register, that the country has satisfied the requirements of section 203(c) and (d) of the ATPA (19 U.S.C. 3202(c) and (d)), resulting in the enumeration of such country in U.S. note 1 to subchapter XXI of Chapter 98 of the HTSUS.

James C. Leonard III,
Chairman, Committee for the Implementation of Textile Agreements.

[FR Doc. E6-11555 Filed 7-19-06; 8:45 am]

BILLING CODE 3510-DS-S